DEPARTMENT OF LABOR

Employment and Training Administration

[TA-W-51,099]

Allegheny Ludlum, Melt Shop and Rolling Mill Division, Houston, PA; Notice of Revised Determination on Reconsideration

By application of June 6, 2003, the United Steel Workers of America, Local 7139-07, requested administrative reconsideration regarding the Department's Negative Determination Regarding Eligibility to Apply for Worker Adjustment Assistance, applicable to the workers of the subject firm.

The initial investigation resulted in a negative determination issued on April 21, 2003, based on the finding that criterion 3(A) (the workers' firm is a supplier and the component parts it supplied for the primary firm accounted for at least 20 percent of the production or sales of the workers' firm) and 3(B)(a loss of business by the workers' firm with the primary firm contributed importantly to the workers' separation or threat of separation) have not been met. The denial notice was published in the Federal Register on May 7, 2003 (68 FR 24503).

Pursuant to the receipt of the request for reconsideration, and upon further review of the initial investigation, it has become apparent that Allegheny Ludlum, Melt Shop and Rolling Mill Division, Houston, Pennsylvania supplies component parts for stainless steel bar, rod and wire and a loss of business with a manufacturer (whose workers were certified eligible to apply for adjustment assistance) contributed importantly to the workers separation or threat of separation.

Conclusion

After careful review of the facts obtained in the investigation, I determine that workers of Allegheny Ludlum, Melt Shop and Rolling Mill Division, Houston, Pennsylvania qualify as adversely affected secondary workers under section 222 of the Trade Act of 1974. In accordance with the provisions of the Act, I make the following certification:

All workers of Allegheny Ludlum, Melt Shop and Rolling Mill Division, Houston, Pennsylvania, who became totally or partially separated from employment on or after February 27, 2002 through two years from the date of this certification, are eligible to apply for adjustment assistance under section 223 of the Trade Act of 1974.

Signed in Washington, DC this 1st day of August 2003.
Elliott S. Kushner,
Certifying Officer, Division of Trade Adjustment Assistance.

[FR Doc. 03-21280 Filed 8-19-03; 8:45 am]

BILLING CODE 4510-30-P